DEPARTMENT OF HEALTH AND HUMAN SERVICES

Substance Abuse and Mental Health Services Administration

Notice of Meeting of the Advisory Committee for Women's Services

Pursuant to Public Law 92-463, notice is hereby given of the teleconference meeting of the Advisory Committee for Women's Services of the Substance Abuse and Mental Health Services Administration (SAMHSA) in May 2002.

The teleconference meeting of the Advisory Committee for Women's Services will include a discussion of SAMHSA's June 19-20, 2002 Joint Council Meeting, SAMHSA's Delayering and Restructering activities, policy and program issues relating to women's substance abuse and mental health service needs, HIV/AIDS Data Collection processes and other policy issues.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-5184.

Attendance by the public will be limited to space available. Public comments are welcome. Please communicate with the individual listed as contact below to make arrangements to comment or to request special accommodations for persons with disabilities.

Substantive information may be obtained from the contact whose name and telephone number is listed below.

Committee Name: Advisory Committee for Women's Services.

Meeting Date(s): May 7, 2002.

Place: 5600 Fishers Lane, Room 12C-06, Rockville, MD 20857.

Type: Open: May 7, 2002—4-5:30 p.m.

Contact: Nancy P. Brady, Executive Secretary, Telephone: (301) 443-5184 and Fax: (301) 443-8964.

This notice is being published less than 15 days prior to the meeting due to the urgent need for the Advisory Committee to be notified of the Restructering Delayering activities of SAMHSA and the immediate impact of these activities on the Committee.

Dated: May 2, 2002.
Toian Vaughn,
Committee Management Officer, Substance Abuse and Mental Health Services Administration.

[FR Doc. 02-11379 Filed 5-7-02; 8:45 am]

BILLING CODE 4162-20-P